DEPARTMENT OF TRANSPORTATION

Federal Motor Carrier Safety Administration

[Docket No. FMCSA-2019-0204]

Agency Information Collection Activities; Renewal of a Currently-Approved Information Collection: Unified Registration System, FMCSA Registration/Updates

AGENCY: Federal Motor Carrier Safety Administration (FMCSA), DOT.

ACTION: Notice and request for comments.

SUMMARY: In accordance with the Paperwork Reduction Act of 1995, FMCSA announces its plan to submit the information collection request (ICR) described below to the Office of Management and Budget (OMB) for its review and approval and invites public comment. FMCSA requests approval to renew the ICR titled “Unified Registration System, FMCSA Registration/Updates,” OMB Control No. 2126-0051. This ICR applies to new registrants seeking initial operating authority from FMCSA. New registrants seeking operating authority must use online Form MCSA-1, accessible via the Unified Registration System (URS).

DATES: We must receive your comments on or before November 12, 2019.

ADDRESSES: You may submit comments identified by Federal Docket Management System (FDMS) Docket Number FMCSA-2019-0204 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. e.t., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Mr. Jeff Secrist, Office of Registration and Safety Information, Chief, Registration, Licensing, and Insurance Division, Department of Transportation, Federal Motor Carrier Safety Administration, West Building 6th Floor, 1200 New Jersey Avenue SE, Washington, DC 20590. Telephone: 202-385-2367; email: jeff.secrist@dot.gov.

SUPPLEMENTARY INFORMATION:

Background

FMCSA registers for-hire motor carriers of regulated commodities and of passengers, under 49 U.S.C. 13902(a); surface freight forwarders, under 49 U.S.C. 13903; property brokers, under 49 U.S.C. 13904; and certain Mexico-domiciled motor carriers, under 49 U.S.C. 13902(c). These motor carriers may conduct transportation services in the United States only if they are registered with FMCSA. Each registration is effective from the date specified and remains in effect for such period as the Secretary of Transportation (Secretary) determines by regulations.

The Final Rule titled “Unified Registration System,” (78 FR 52608) dated August 23, 2013, implemented statutory provisions for an online registration system for entities that are subject to FMCSA's licensing, registration, and certification regulations. URS streamlines the registration process and serves as a clearinghouse and repository of information on motor carriers, brokers, freight forwarders, intermodal equipment providers (IEPs), hazardous materials safety permit (HMSP) applicants, and cargo tank facilities required to register with FMCSA. When developing URS, FMCSA planned that the OP-1 series of forms (except for OP-1(MX)) would ultimately be folded into one overarching form (MCSA-1), which would be used by all motor carriers seeking authority.

FMCSA began a phased rollout of URS in 2015. The first phase, which became effective on December 12, 2015, impacts only first-time applicants seeking an FMCSA-issued registration. FMCSA had planned subsequent rollout phases for existing registrants; however, there have been substantial delays, and subsequent phases have not been rolled out to date.

On January 17, 2017, FMCSA issued a Final Rule titled “Unified Registration System; Suspension of Effectiveness,” which indefinitely suspended URS effectiveness dates for existing registrants only (82 FR 5292). Pursuant to this Final Rule, FMCSA is still accepting forms OP-1, OP-1(P), OP-1(FF), and OP-1(NNA) for existing registrants wishing to apply for additional authorities. Separately, FMCSA requires Form OP-1(MX) for Mexico-domiciled carriers that wish to operate beyond the U.S. municipalities on the U.S.-Mexico border and their commercial zones.

As described above, only first-time applicants seeking an FMCSA-issued registration must apply for authority via URS, using Form MCSA-1. Under URS, all forms described in the current ICR, except OP-1(MX), are folded into Form MCSA-1. Information collection activities associated with the OP-1 series of forms are covered under a different ICR, titled “Licensing Applications for Motor Carrier Operating Authority,” OMB Control No. 2126-0016.

Form MCSA-1 requests information to identify the applicant, the nature and scope of its proposed operations, safety-related details, and information regarding the drivers and vehicles it plans to use in U.S. operations. FMCSA and the States use registration information collected via Form MCSA-1 to track motor carriers, freight forwarders, brokers, and other entities they regulate. Registering motor carriers is essential to being able to identify carriers so that their safety performance can be tracked and evaluated. The data make it possible to link individual trucks to the responsible motor carrier, thus implementing the mandate under 49 U.S.C. 31136(a)(1); that is, ensuring that CMVs are maintained and operated safely (see Attachment G). In general, registration information collected via Form MCSA-1 informs prioritization of the Agency's activities and aids in assessing and statistically analyzing the safety outcomes of those activities.

The current information collection supports the DOT Strategic Goal of Safety. It streamlines registration processes and ensures that FMCSA can more efficiently track motor carriers, freight forwarders, brokers, and other entities regulated by the Agency.

Changes From Previous Estimates

The previously approved version of this ICR included the following annualized burden estimates: 627,264 respondents; 205,412 burden hours; and $6,066,345 in labor costs. Overall Federal Government costs associated with the previous iteration of this ICR were estimated to be $52,000,000, including staff, IT, and overhead costs.

The current ICR includes the following annualized estimates: 51,875 respondents; 112,396 burden hours; $4,758,447.58 in labor costs. Overall Federal Government costs associated with the current iteration of this ICR are $5,718,240.32, including labor costs and IT support.

As can be seen, there have been significant decreases in the number of respondents, while labor costs to the industry have decreased approximately 22 percent, and costs to the Government have decreased dramatically, by over $45,000,000. Burden hour estimates have also decreased, but not as substantially as the estimated number of respondents. There are several reasons for these changes.

First, the original iteration of this ICR included costs associated with the development, roll-out, and implementation of URS. Those costs are not reflected in this ICR. Instead, estimated costs for ongoing IT maintenance and support of the existing system are included.

Next, FMCSA has experienced delays in rolling out Phase II of URS (which applies to existing registrants) and has indefinitely suspended the effective date of URS requirements for such entities. In the original iteration of this ICR, it was expected that all entities subject to FMCSA licensing and registration requirements would apply for additional authorities and submit biennial update information via URS. However, due to delays in rolling out Phase II of URS, existing registrants must still use the OP-1 series of forms to apply for additional authorities and the MCS-150 to submit their biennial updates. FMCSA is assuming that this will be the case for the 3-year period covered by this ICR. This has resulted in a decrease in the number of annual responses.

While the estimated number of annual responses has decreased by nearly 92 percent, burden hours have only decreased by about 45 percent. This is explained by an increased estimate of the amount of time it takes a motor carrier to complete Form MCSA-1. In the previously approved ICR, FMCSA estimated that it would take 1.34 hours; however, after observing URS activities for the past three years, the Agency estimates that it takes closer to 2 hours and 10 minutes for an applicant to fill out the form. Thus, the estimated burden hours for each respondent have increased over prior years.

Finally, the changes in labor cost to the industry reflect a change in the methodology used to estimate hourly wages for carrier compliance officers, which resulted in an increase in hourly wage of $13.06 per hour.

Title: Unified Registration System, FMCSA Registration Updates.

OMB Control Number: 2126-0051.

Type of Request: Renewal of a currently approved collection.

Respondents: Carrier compliance officer or equivalent from transportation entities subject to FMCSA's licensing, registration and certification regulations.

Estimated Number of Respondents: 155,625 (51,875 annualized).

Estimated Time per Response: 2 hours and 10 minutes.

Expiration Date: January 31, 2020.

Frequency of Response: One-time information collection.

Estimated Total Annual Burden: 337,188 hours total (112,396 annualized).

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued under the authority of 49 CFR 1.87 on: September 5, 2019.
Kelly Regal,
Associate Administrator for Office of Research and Information Technology.

[FR Doc. 2019-19650 Filed 9-10-19; 8:45 am]

BILLING CODE 4910-EX-P